DEPARTMENT OF HOMELAND SECURITY

Coast Guard

33 CFR Part 100

[CGD05-06-018]

RIN 1625-AA08

Special Local Regulations for Marine Events; Western Branch, Elizabeth River, Portsmouth, VA

AGENCY: Coast Guard, DHS.

ACTION: Notice of enforcement of regulation.

SUMMARY: The Coast Guard is implementing the special local regulations at 33 CFR 100.525 for the Virginia State Hydroplane Championships to be held April 22 and 23, 2006, on the waters of the Western Branch of the Elizabeth River at Portsmouth, Virginia. These special local regulations are necessary to control vessel traffic due to the confined nature of the waterway and expected vessel congestion during the event. The effect will be to restrict general navigation in the regulated area for the safety of event participants, spectators and vessels transiting the event area.

DATES: Effective Dates: 33 CFR 100.525 will be enforced from 8 a.m. to 6 p.m. on April 22 and 23, 2006.

FOR FURTHER INFORMATION CONTACT: Petty Officer William Banker, Marine Events Coordinator, Commander, Coast Guard Sector Hampton Roads, 4000 Coast Guard Boulevard, Portsmouth, VA 23703, and (757) 668-5584.

SUPPLEMENTARY INFORMATION: The Virginia Boat Racing Association will sponsor the Virginia State Hydroplane Championships on the waters of the Western Branch of the Elizabeth River at Portsmouth, Virginia. The event will consist of high performance hydroplane vessels racing around a one-mile course at high speeds. A fleet of spectator vessels is expected to gather near the event site to view the race. In order to ensure the safety of participants, spectators and transiting vessels, 33 CFR 100.525 will be enforced for the duration of the event. Under provisions of 33 CFR 100.525, from 8 a.m. to 6 p.m. on April 22 and 23, 2006 vessels may not enter the regulated area without permission from the Coast Guard Patrol Commander. Spectator vessels may anchor outside the regulated area but may not block a navigable channel. Because these restrictions will be in effect for a limited period, they should not result in a significant disruption of maritime traffic.

The regulation in 33 CFR 100.525, paragraph (c) “Effective Dates” has been modified with respect to weekend days. Specifically, that Sunday will be substituted for Friday on the fourth weekend in April.

In addition to this notice, the maritime community will be provided extensive advance notification via the Local Notice to Mariners, and marine information broadcasts so mariners can adjust their plans accordingly.

Dated: March 23, 2006.
Larry L. Hereth,
Rear Admiral, U.S. Coast Guard, Commander, Fifth Coast Guard District.

[FR Doc. 06-3175 Filed 3-31-06; 8:45 am]

BILLING CODE 4910-15-P